DEPARTMENT OF COMMERCE

International Trade Administration

[A-570-501]

Continuation of Antidumping Duty Order: Natural Bristle Paint Brushes and Brush Heads From the People's Republic of China

AGENCY: Import Administration, International Trade Administration, Department of Commerce.

SUMMARY: The Department of Commerce (“the Department”), pursuant to sections 751(c) and 752 of the Tariff Act of 1930, as amended (“the Act”), determined that revocation of the antidumping duty order on natural bristle paint brushes and brush heads (“paint brushes”) from the People's Republic of China (“PRC”) would be likely to lead to continuation or recurrence of dumping.¹

¹ See Natural Bristle Paint Brushes and Brush Heads from the People's Republic of China; Final Results of the Expedited Sunset Review of the Antidumping Duty Order, 69 FR 61795 (October 21, 2004) (“Department's Final Results” ).

On November 19, 2004, the International Trade Commission (“ITC”), pursuant to section 751(c) of the Act, determined that revocation of the antidumping duty order on paint brushes from the PRC would be likely to lead to continuation or recurrence of material injury to an industry in the United States within a reasonably foreseeable time.² Therefore, pursuant to 19 CFR 351.218(f)(4), the Department is publishing notice of the continuation of the antidumping duty order on paint brushes from the PRC.

² See Natural Bristle Paint Brushes from China, Investigation No. 731-TA-244 (Second Review), 69 FR 67759 (November 19, 2004) (“ITC Determination” ).

EFFECTIVE DATES: December 2, 2004.

FOR FURTHER INFORMATION CONTACT: Hilary E. Sadler, Esq., Office of Policy, Import Administration, International Trade Administration, U.S. Department of Commerce, 14th Street and Constitution Ave., NW., Washington, DC 20230; telephone: (202) 482-4340.

SUPPLEMENTARY INFORMATION

Background

On May 3, 2004, the Department initiated and the ITC instituted a sunset review of the antidumping duty order on paint brushes from the PRC pursuant to section 751(c) of the Act.³ As a result of its review, the Department found that revocation of the antidumping duty order would be likely to lead to continuation or recurrence of dumping and notified the ITC of the magnitude of the margins likely to prevail were the order to be revoked. See Department's Final Results.

³ See Initiation of Five-Year (“Sunset”) Reviews, 69 FR 24118 (May 3, 2004).

On November 19, 2004, the ITC determined, pursuant to section 751(c) of the Act, that revocation of the antidumping duty order on paint brushes from the PRC would be likely to lead to continuation or recurrence of material injury to an industry in the United States within a reasonably foreseeable time. See ITC Determination.

Scope of the Order

The products covered by the order are natural bristle paintbrushes and brush heads from the PRC. Excluded from the order are paintbrushes and brush heads with a blend of 40 percent natural bristles and 60 percent synthetic filaments. The merchandise under review is currently classifiable under item 9603.40.40.40 of the Harmonized Tariff Schedule of the United States (“HTSUS”). Although the HTSUS subheading is provided for convenience and customs purposes, the Department's written description of the merchandise is dispositive.

Determination

As a result of the determinations by the Department and the ITC that revocation of this antidumping duty order would be likely to lead to continuation or recurrence of dumping and material injury to an industry in the United States, pursuant to section 751(d)(2) of the Act, the Department hereby orders the continuation of the antidumping duty order on paint brushes from the PRC.

The Department will instruct U.S. Customs and Border Protection to continue to collect antidumping duty deposits at the rates in effect at the time of entry for all imports of subject merchandise. The effective date of continuation of this order will be the date of publication in the Federal Register of this Notice of Continuation. Pursuant to section 751(c)(2) and 751(c)(6) of the Act, the Department intends to initiate the next five-year review of this order not later than November 2009.

Dated: November 26, 2004.
Barbara E. Tillman,
Acting Assistant Secretary for Import Administration.

[FR Doc. E4-3446 Filed 12-1-04; 8:45 am]

BILLING CODE 3510-DS-P